DEPARTMENT OF ENERGY

Federal Energy Regulatory Commission

Combined Notice of Filings #1

Take notice that the Commission received the following electric rate filings:

Docket Numbers: ER10-3246-005.

Applicants: PacifiCorp.

Description: Notice of Change in Status of PacifiCorp.

Filed Date: 7/27/15.

Accession Number: 20150727-5229.

Comments Due: 5 p.m. ET 8/17/15.

Docket Numbers: ER12-2068-008; ER15-1471-001; ER10-2460-008; ER10-2461-008; ER12-682-009; ER10-2463-008; ER15-1672-001; ER11-2201-012; ER10-2464-005; ER13-1139-011; ER13-1585-005; ER10-2465-004; ER11-2657-005; ER13-17-006; ER14-2630-004; ER12-1311-008; ER10-2466-009; ER11-4029-008; ER12-2205-005; ER12-2159-004; ER10-1821-009; ER12-919-003.

Applicants: Blue Sky East, LLC, Blue Sky West, LLC, Canandaigua Power Partners, LLC, Canandaigua Power Partners II, LLC, Erie Wind, LLC, Evergreen Wind Power, LLC, Evergreen Wind Power II, LLC, Evergreen Wind Power III, LLC, First Wind Energy Marketing, LLC, Imperial Valley Solar 1, LLC Longfellow Wind, LLC, Milford Wind Corridor Phase I, LLC, Milford Wind Corridor Phase II, LLC, Niagara Wind Power, LLC, Regulus Solar, LLC, Stetson Holdings, LLC, Stetson Wind II, LLC, Vermont Wind, LLC, Meadow Creek Project Company LLC, Canadian Hills Wind, LLC, Goshen Phase II LLC, Rockland Wind Farm LLC.

Description: Notice of Change in Status of Blue Sky East, LLC, et. al. under ER12-2068, et. al.

Filed Date: 7/27/15.

Accession Number: 20150727-5227.

Comments Due: 5 p.m. ET 8/17/15.

Docket Numbers: ER15-1939-001.

Applicants: Southwest Power Pool, Inc.

Description: Tariff Amendment: 3050 Substitute Sunwind Energy Group GIA to be effective 6/3/2015.

Filed Date: 7/28/15.

Accession Number: 20150728-5073.

Comments Due: 5 p.m. ET 8/18/15.

Docket Numbers: ER15-2260-000.

Applicants: PJM Interconnection, L.L.C.

Description: § 205(d) Rate Filing: Compliance Filing per 3/20/14 Order in Docket No. EL14-24-000 and Order 809 to be effective 4/1/2016.

Filed Date: 7/23/15.

Accession Number: 20150723-5137.

Comments Due: 5 p.m. ET 8/13/15.

Docket Numbers: ER15-2283-000.

Applicants: PacifiCorp.

Description: § 205(d) Rate Filing: Amendment to Market-Based Rate Tariff—EIM to be effective 9/26/2015.

Filed Date: 7/27/15.

Accession Number: 20150727-5167.

Comments Due: 5 p.m. ET 8/17/15.

Docket Numbers: ER15-2284-000.

Applicants: PacifiCorp.

Description: Tariff Cancellation: Termination of Exelon EIM Participation Construction Agreement to be effective 9/10/2015.

Filed Date: 7/27/15.

Accession Number: 20150727-5169.

Comments Due: 5 p.m. ET 8/17/15.

Docket Numbers: ER15-2285-000.

Applicants: New York Independent System Operator, Inc.

Description: § 205(d) Rate Filing: NYISO 205 filing of SGIA among NYISO, NMPC and Monroe County to be effective 7/13/2015.

Filed Date: 7/27/15.

Accession Number: 20150727-5170.

Comments Due: 5 p.m. ET 8/17/15.

Docket Numbers: ER15-2286-000.

Applicants: PJM Interconnection, L.L.C.

Description: § 205(d) Rate Filing: First Revised Service Agreement No. 4030; Queue No. AA1-102 to be effective 6/26/2015.

Filed Date: 7/27/15.

Accession Number: 20150727-5172.

Comments Due: 5 p.m. ET 8/17/15.

Docket Numbers: ER15-2287-000.

Applicants: Midcontinent Independent System Operator, Inc.

Description: § 205(d) Rate Filing: 2015-07-28_SA 2753 NSP-Red Pine Wind 1st Rev GIA (H081) to be effective 7/29/2015.

Filed Date: 7/28/15.

Accession Number: 20150728-5055.

Comments Due: 5 p.m. ET 8/18/15.

Take notice that the Commission received the following land acquisition reports:

Docket Numbers: LA15-2-000.

Applicants: Northern States Power Company, a Minnesota corporation, Xcel Energy Inc.

Description: Quarterly Land Acquisition Report of Northern States Power Company, a Minnesota corporation, et. al.

Filed Date: 7/28/15.

Accession Number: 20150728-5034.

Comments Due: 5 p.m. ET 8/18/15.

Docket Numbers: LA15-2-000.

Applicants: Blackstone Wind Farm, LLC, Blackstone Wind Farm II LLC, Flat Rock Windpower LLC, Flat Rock Windpower II LLC, Headwaters Wind Farm LLC, High Prairie Wind Farm II, LLC, High Trail Wind Farm, LLC, Lone Valley Solar Park I LLC, Lone Valley Solar Park II LLC, Lost Lakes Wind Farm LLC, Marble River, LLC, Meadow Lake Wind Farm LLC, Meadow Lake Wind Farm II LLC, Meadow Lake Wind Farm III LLC, Meadow Lake Wind Farm IV LLC, Old Trail Wind Farm, LLC, Paulding Wind Farm II LLC, Pioneer Prairie Wind Farm I LLC, Rail Splitter Wind Farm, LLC, Rising Tree Wind Farm LLC, Rising Tree Wind Farm II LLC, Rising Tree Wind Farm III LLC, Sustaining Power Solutions LLC.

Description: Quarterly Land Acquisition Report of Blackstone Wind Farm, LLC, et. al.

Filed Date: 7/28/15.

Accession Number: 20150728-5035.

Comments Due: 5 p.m. ET 8/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2015.
Nathaniel J. Davis, Sr.,
Deputy Secretary.

[FR Doc. 2015-18963 Filed 7-31-15; 8:45 am]

BILLING CODE 6717-01-P